DEPARTMENT OF HOMELAND SECURITY

Coast Guard

[Docket No. USCG-2010-0164]

National Boating Safety Advisory Council

AGENCY: Coast Guard, DHS.

ACTION: Notice of Federal advisory committee meeting.

SUMMARY: The National Boating Safety Advisory Council and its Subcommittees will meet on November 6 through 8, 2014, in Arlington, VA, to discuss issues relating to recreational boating safety. These meetings will be open to the public.

DATES: The National Boating Safety Advisory Council will meet Thursday, November 6, 2014, from 8:30 a.m. to 12:00 p.m. and Saturday, November 8, 2014 from 8:30 a.m.to 1 p.m. The Boats and Associated Equipment Subcommittee will meet on November 6, 2014, from 1:30 p.m. to 5 p.m. The Recreational Boating Safety Strategic Planning Subcommittee will meet on November 7, 2014, from 8:30 a.m. to 11:30 a.m., and the Prevention Through People Subcommittee will meet on November 7, 2014, from 1 p.m. to 5 p.m. Please note that these meetings may conclude early if the National Boating Safety Advisory Council has completed all business.

ADDRESSES: The meeting will be held in the Ballroom of the Holiday Inn Arlington (http://www.hiarlington.com), 4610 N Fairfax Drive, Arlington, VA 22203.

For information on facilities or services for individuals with disabilities or to request special assistance at the meeting, contact Mr. Jeff Ludwig, Alternate Designated Federal Officer, telephone 202-372-1061, or at jeffrey.a.ludwig@uscg.mil.

To facilitate public participation, we are inviting public comment on the issues to be considered by the Council as listed in the “Agenda” section below. Written comments for distribution to Council members must be submitted no later than October 31, 2014, if you want the Council members to be able to review your comments before the meeting, and must be identified by USCG-2010-0164. Written comments may be submitted by one of the following methods:

• Federal eRulemaking Portal: http://www.regulations.gov. Follow the instructions for submitting comments (preferred method to avoid delays in processing).

• Fax: (202) 493-2251.

• Mail: Docket Management Facility (M-30), U.S. Department of Transportation, West Building Ground Floor, Room W12-140, 1200 New Jersey Avenue SE., Washington, DC 20590-0001.

• Hand Delivery: Same as mail address above between 9 a.m. and 5 p.m., Monday through Friday, except Federal holidays. The telephone number is 202-366-9329.

Instructions: All submissions received must include the words “Department of Homeland Security” and the docket number for this action, USCG-2010-0164. Comments received will be posted without alteration at http://www.regulations.gov, including any personal information provided. You may review a Privacy Act notice regarding public dockets in the January 17, 2008, issue of the Federal Register (73 FR 3316).

Docket: For access to the docket to read documents or comments related to this notice, go to http://www.regulations.gov, enter the docket number in the “Search” box, press enter, then click on the item you wish to view.

Public oral comment periods will be held during the meetings after each presentation and at the end of each day. Speakers are requested to limit their comments to 3 minutes. Please note that the public comment periods may end before the time indicated, following the last call for comments. Contact Mr. Jeff Ludwig as indicated below to register as a speaker.

FOR FURTHER INFORMATION CONTACT: Mr. Jeff Ludwig, Alternate Designated Federal Office, for the National Boating Safety Advisory Council, telephone (202) 372-1061, or at jeffrey.a.ludwig@uscg.mil. If you have questions on viewing or submitting material to the docket, call Cheryl Collins, Program Manager, Docket Operations, telephone 202-366-9826 or 1-800-647-5527.

SUPPLEMENTARY INFORMATION: Notice of this meeting is given under the Federal Advisory Committee Act, Title 5 United States Code Appendix. Congress established the National Boating Safety Advisory Council in the Federal Boat Safety Act of 1971 (Public Law 92-75). The National Boating Safety Advisory Council currently operates under the authority of 46 U.S.C. 13110, which requires the Secretary of Homeland Security and the Commandant of the Coast Guard by delegation to consult with the National Boating Safety Advisory Council in prescribing regulations for recreational vessels and associated equipment and on other major safety matters. See 46 U.S.C. 4302(c) and 13110(c).

Meeting Agenda

The agenda for the National Boating Safety Advisory Council meeting is as follows:

Thursday, November 6, 2014

(1) Opening Remarks, Swearing-In of New Members and Presentation of Awards to Outgoing Members.

(2) Receipt and discussion of the following reports:

(a) Chief, Office of Auxiliary and Boating Safety, Update on the Coast Guard's implementation of National Boating Safety Advisory Council Resolutions and Recreational Boating Safety Program report.

(b) Alternate Designated Federal Officer's report concerning Council administrative and logistical matters.

(c) Office of Navigation Systems report on the United States Coast Guard's testing of Electronic Aids to Navigation (eATON)

(d) National Boating Safety Advisory Council Workgroup report on Terms of Service for Members and the Chairman.

(3) Presentation and discussion on ethics requirements for federal advisory committee members.

(4) Presentation and discussion on National Non-Profit Boating Organization Grant Program FY15 Areas of Interest Notice.

(5) Subcommittee Session: Boats and Associated Equipment Subcommittee

Issues to be discussed include Uniform Certificate of Title Act—Vessel; alternatives to pyrotechnic visual distress signals; grant projects related to boats & associated equipment; and updates to 33 CFR parts 181 & 183

(6) Public comment period.

(7) Adjournment of Meeting.

Friday, November 7, 2014

The meeting will primarily be dedicated to Subcommittee sessions:

(1) Recreational Boating Strategic Planning Subcommittee.

Issues to be discussed include progress on implementation of the 2012-2016 Strategic Plan, and development of the 2017-2021 Strategic Plan.

(2) Prevention Through People Subcommittee.

Issues to be discussed include life jacket carriage requirements for certain recreational vessels and licensing requirements for on-water boating safety instruction providers

Saturday, November 8, 2014

The full Council will resume meeting on this day.

(1) Receipt and Discussion of the Boats and Associated Equipment, Prevention through People and Strategic Planning Subcommittee reports.

(2) Public comment period.

(3) Discussion of any recommendations to be made to the Coast Guard.

(4) Adjournment of meeting.

There will be a comment period for the National Boating Safety Advisory Council members and a comment period for the public after each presentation and report, but before each recommendation is formulated. The Council members will review the information presented on each issue, deliberate on any recommendations presented in the Subcommittee reports, and formulate recommendations for the Department's consideration.

The meeting agenda and all meeting documentation can be found at: http://homeport.uscg.mil/NBSAC. Alternatively, you may contact Mr. Jeff Ludwig as noted in the FOR FURTHER INFORMATION CONTACT section above.

Dated: October 15, 2014.
Anthony Regalbuto,
Acting Director of Inspections and Compliance.

[FR Doc. 2014-24915 Filed 10-17-14; 8:45 am]

BILLING CODE 9110-04-P